DEPARTMENT OF TRANSPORTATION

Office of the Secretary

Aviation Proceedings; Certification Applications

Notice of Applications for Certificates of Public Convenience and Necessity and Foreign Air Carrier Permits Filed Under Subpart B (formerly Subpart Q) during the Week Ending April 6, 2001. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-9319.

Date Filed: April 2, 2001.

Due Date for Answers, Conforming Applications, or Motion to Modify Scope: April 23, 2001.

Description: Application of North American Airlines, Inc., pursuant to 49 U.S.C. Sections 41101(a) and 41102(a), Parts 201and 204, and Subpart B, requesting a new or amended Certificate of Public Convenience and Necessity for scheduled foreign air transportation of persons, property and mail from points behind the United States via the United States and intermediate points to a point or points in the Dominican Republic and beyond.

Dorothy Y. Beard,
Federal Register Liaison.

[FR Doc. 01-9583 Filed 4-17-01; 8:45 am]

BILLING CODE 4910-62-P